FEDERAL RETIREMENT THRIFT INVESTMENT BOARD

Sunshine Act Notice

TIME AND DATE: 9 a.m. (EDT), May 14, 2001.

PLACE: 4th Floor, Conference Room, 1250 H Street, NW., Washington, DC.

STATUS: Open.

MATTERS TO BE CONSIDERED: 1. National Finance Center Record Keeping and New TSP System.

2. Congressional/Agency/Participant Liaison

3. Benefits and Investments

4. Participant Communications

5. Approval of the minutes of the April 9, 2001, Board member meeting

6. Thrift Savings Plan Activity Report by the Executive Director

7. Approval of the Update of the FY 2001 Budget and FY 2002 Estimates

8. Investment Policy Review

9. Status of Audit Recommendations

FOR FURTHER INFORMATION CONTACT: Thomas J. Trabucco, Director, Office of External Affairs, (202) 942-1640.

Elizabeth S. Woodruff,
Secretary to the Board, Federal Retirement Thrift Investment Board.

[FR Doc. 01-11404 Filed 5-2-01; 12:58 pm]

BILLING CODE 6760-01-M